COMMITTEE FOR THE IMPLEMENTATION OF TEXTILE AGREEMENTS

Designations under the Textile and Apparel Commercial Availability Provision of the African Growth and Opportunity Act (AGOA) and the U.S. - Caribbean Trade Partnership Act (CBTPA)

March 2, 2004.

AGENCY: Committee for the Implementation of Textile Agreements (The Committee).

ACTION: Designation.

SUMMARY: The Committee has determined that micro-denier 30 singles and 36 singles solution dyed, open-end spun, staple spun viscose yarn, classified in subheading 5510.11.0000 of the Harmonized Tariff Schedule of the United States (HTS), for use in manufacturing fabrics, cannot be supplied by the domestic industry in commercial quantities in a timely manner under the AGOA and the CBTPA. The Committee hereby designates apparel articles that are both cut and sewn or otherwise assembled in one or more eligible beneficiary sub-Saharan African country or in one or more eligible CBTPA beneficiary country from U.S. formed fabrics containing such yarns as eligible to enter free of quotas and duties under HTSUS subheading 9819.11.24 or 9820.11.27, provided all other yarns are U.S. formed and all other fabrics are U.S. formed from or yarns wholly formed in the United States, including fabrics not formed from yarns, if such fabrics are classifiable under HTS heading 5602 or 5603 and are wholly formed in the United States.

EFFECTIVE DATE: March 5, 2004.

FOR FURTHER INFORMATION CONTACT: Janet Heinzen, Office of Textiles and Apparel, U.S. Department of Commerce, (202) 482-3400.

SUPPLEMENTARY INFORMATION:

Authority: Authority: Section 112(b)(5)(B) of the AGOA; Section 213(b)(2)(A)(v)(II) of the Caribbean Basin Economic Recovery Act (CBERA), as added by Section 211(a) of the CBTPA; Sections 1 and 6 of Executive Order No. 13191 of January 17, 2001; Presidential Proclamations 7350 and 7351 of October 4, 2000.

BACKGROUND

The commercial availability provisions of the AGOA and the CBTPA provide for duty-free and quota-free treatment for apparel articles that are both cut (or knit-to-shape) and sewn or otherwise assembled in one or more beneficiary countries from fabric or yarn that is not formed in the United States if it has been determined that such yarns or fabrics cannot be supplied by the domestic industry in commercial quantities in a timely manner and certain procedural requirements have been met. In Presidential Proclamations 7350 and 7351 of October 4, 2000, the President proclaimed that this treatment would apply to such apparel articles from fabrics or yarns designated by the appropriate U.S. government authority in the Federal Register. In Sections 1 and 6 of Executive Order No. 13191 of January 17, 2001, the Committee was authorized to determine whether yarns or fabrics cannot be supplied by the domestic industry in commercial quantities in a timely manner under the AGOA or the CBTPA.

On November 3, 2003, the Committee received a request alleging that micro-denier 30 singles and 36 singles solution dyed, open-end spun, staple spun viscose yarn, described above, for use in manufacturing fabrics, cannot be supplied by the domestic industry in commercial quantities in a timely manner under the AGOA and the CBTPA. It requested that apparel articles from U.S. formed fabrics containing such yarns be eligible for preferential treatment under the AGOA and the CBTPA. On November 12, 2003, the Committee requested public comment on the petition (68 FR 68086). On November 28, 2003, the Committee and the U.S. Trade Representative (USTR) sought the advice of the Industry Sector Advisory Committee for Wholesaling and Retailing and the Industry Sector Advisory Committee for Textiles and Apparel. On November 28, 2003, the Committee and USTR offered to hold consultations with the Committee on Ways and Means of the House of Representatives and the Committee on Finance of the Senate (collectively, the Congressional Committees). On December 15, 2003, the U.S. International Trade Commission provided advice on the petition. Based on the information and advice received and its understanding of the industry, the Committee determined that the yarn set forth in the request cannot be supplied by the domestic industry in commercial quantities in a timely manner. On January 2, 2004, the Committee and USTR submitted a report to the Congressional Committees that set forth the action proposed, the reasons for such action, and advice obtained. A period of 60 calendar days since this report was submitted has expired, as required by the AGOA and the CBTPA.

The Committee hereby designates apparel articles that are both cut and sewn or otherwise assembled in one or more eligible beneficiary sub-Saharan African country or in one or more eligible CBTPA beneficiary country from U.S. formed fabrics containing micro-denier 30 singles and 36 singles solution dyed, open-end spun, staple spun viscose yarn, produced on open-ended spindles, classified in subheading HTS subheading 5510.11.0000 as eligible to enter free of quotas and duties under HTSUS subheading 9819.11.24 or 9820.11.27, provided all other yarns are U.S. formed and all other fabrics are U.S. formed from yarns wholly formed in the United States, including fabrics not formed from yarns, if such fabrics are classifiable under HTS heading 5602 or 5603 and are wholly formed in the United States.

An “eligible beneficiary sub-Saharan African country” means a country which the President has designated as a beneficiary sub-Saharan African country under section 506A of the Trade Act of 1974 (19 U.S.C. 2466a), and which has been the subject of a finding, published in the Federal Register, that the country has satisfied the requirements of section 113 of the AGOA (19 U.S.C. 3722), resulting in the enumeration of such country in U.S. note 1 to subchapter XIX of chapter 98 of the HTSUS.

An “eligible CBTPA beneficiary country” means a country which the President has designated as a CBTPA beneficiary country under section 213(b)(5)(B) of the CBERA (19 U.S.C. 2703(b)(5)(B)), and which has been the subject of a finding, published in the Federal Register, that the country has satisfied the requirements of section 213(b)(4)(A)(ii) of the CBERA (19 U.S.C. 2703(b)(4)(A)(ii)), resulting in the enumeration of such country in U.S. note 1 to subchapter XX of Chapter 98 of the HTSUS.

James C. Leonard III,
Chairman, Committee for the Implementation of Textile Agreements.

[FR Doc. 04-4990 Filed 3-04-04; 8:45 am]

BILLING CODE 3510-DR-S